DEPARTMENT OF COMMERCE

International Trade Administration

[A-201-847]

Heavy Walled Rectangular Welded Steel Pipes and Tubes From Mexico: Notice of Court Decision Not in Harmony With the Results of Antidumping Administrative Review; Notice of Amended Final Results

AGENCY: Enforcement and Compliance, International Trade Administration, Department of Commerce.

SUMMARY: On July 19, 2023, the U.S. Court of International Trade (CIT) issued its final judgment in Nucor Tubular Products Inc. v. United States, Court No. 21-00543, sustaining the U.S. Department of Commerce's (Commerce) remand results pertaining to the administrative review of the antidumping duty (AD) order on heavy walled rectangular welded steel pipes and tubes (HWR pipes and tubes) from Mexico covering the period of review (POR), September 1, 2018, through August 31, 2019. Commerce is notifying the public that the CIT's final judgment is not in harmony with Commerce's final results of the administrative review and that Commerce is amending the final results with respect to the dumping margins assigned to Maquilacero S.A. de C.V. (Maquilacero) and Productos Laminados de Monterrey S.A. de C.V. (Prolamsa).

DATES: Applicable July 29, 2023.

FOR FURTHER INFORMATION CONTACT: David Crespo, AD/CVD Operations, Office II, Enforcement and Compliance, International Trade Administration, U.S. Department of Commerce, 1401 Constitution Avenue NW, Washington, DC 20230; telephone: (202) 482-3693.

SUPPLEMENTARY INFORMATION:

Background

On August 2, 2021, Commerce published its Final Results.¹ In the Final Results, Commerce made no changes to the Preliminary Results ² and continued to rely on the same (1) home market and U.S. sales for Maquilacero's cost recovery test; and (2) currency conversion programming for Prolamsa. We found that Maquilacero and Prolamsa did not make sales of subject merchandise at less than normal value (NV) during the POR.

¹ See Heavy Walled Rectangular Welded Carbon Steel Pipes and Tubes from Mexico: Final Results of Antidumping Duty Administrative Review; 2018-2019, 86 FR 41448 (August 2, 2021) (Final Results), and accompanying Issues and Decision Memorandum (IDM).

² See Heavy Walled Rectangular Welded Carbon Steel Pipes and Tubes from Mexico: Preliminary Results of Antidumping Duty Administrative Review; 2018-2019, 86 FR 7067 (January 26, 2021) (Preliminary Results), and accompanying Preliminary Decision Memorandum.

Nucor Tubular Products, Inc. (Nucor), i.e., the domestic interested party, appealed Commerce's Final Results. On January 18, 2023, the CIT remanded the Final Results to Commerce to reconsider Nucor's ministerial error comments and reexamine (1) the placeholder numbers used to calculate Maquilacero's quarterly costs in the Preliminary Results; and (2) Commerce's assessment of Prolamsa's home market price calculations and correct any potential errors in its currency conversions.³ Specifically, the CIT held that Commerce needed to reconsider the above company-specific calculations in order to address the ministerial error comments and correctly implement its quarterly cost methodology for Maquilacero, and calculate the correct NV for Prolamsa, so that Commerce meets its obligation to calculate antidumping duty rates as accurately as possible.⁴ In the Final Remand, issued in March 2023, Commerce reconsidered the facts on the record and corrected the (1) time period of U.S. sales used in Maquilacero's home market SAS program to be based on all U.S. sales made in the POR; and (2) currency of certain variables to base Prolamsa's NV calculation on the correct currency.⁵ On July 19, 2023, the CIT sustained Commerce's Final Remand.⁶

³ See Nucor Tubular Products Inc. v. United States, 619 F. Supp. 3d 1279 (CIT 2023).

⁴ Id. at 1286-7.

⁵ See Final Results of Redetermination Pursuant to Court Remand, Nucor Tubular Products Inc. v. United States, 619 F. Supp. 3d 1279 (CIT 2023), dated March 17, 2023 (Final Remand).

⁶ See Nucor Tubular Products Inc. v. United States, Court No. 21-00543, Slip Op. 23-104 (CIT 2023).

Timken Notice

In its decision in Timken,⁷ as clarified by Diamond Sawblades,⁸ the U.S. Court of Appeals for the Federal Circuit held that, pursuant to section 516A(c) and (e) of the Tariff Act of 1930, as amended (the Act), Commerce must publish a notice of court decision that is not “in harmony” with a Commerce determination and suspend liquidation of entries pending a “conclusive” court decision. The CIT's July 19, 2023, judgment constitutes a final decision of the CIT that is not in harmony with Commerce's Final Results. Thus, this notice is published in fulfillment of the publication requirements of Timken.

⁷ See Timken Co. v. United States, 893 F.2d 337 (Fed. Cir. 1990) (Timken).

⁸ See Diamond Sawblades Mfrs. Coal. v. United States, 626 F.3d 1374 (Fed. Cir. 2010) (Diamond Sawblades).

Amended Final Results

Because there is now a final court judgment, Commerce is amending its Final Results with respect to Prolamsa, Maquilacero, and the margin for non-selected companies as follows: ⁹

⁹ See Final Remand for details related to the margin calculations.

Producer/exporter | Weighted- average dumping margin (percent)
Maquilacero S.A. de C.V | 3.48
Productos Laminados de Monterrey S.A. de C.V | 2.11
Arco Metal S.A. de C.V | 2.51
Forza Steel S.A. de C.V | 2.51
Industrias Monterrey, S.A. de C.V | 2.51
Perfiles y Herrajes LM S.A. de C.V | 2.51
PYTCO S.A. de C.V | 2.51
Regiomontana de Perfiles y Tubos S.A. de C.V | 2.51
Ternium S.A. de C.V | 2.51
Tuberia Nacional, S.A. de C.V | 2.51
Tuberias Procarsa S.A. de C.V | 2.51

Cash Deposit Requirements

Because Maquilacero and Prolamsa each have cash deposit rates that have been superseded by a subsequent administrative review of the AD order at this time, Commerce will not issue revised cash deposit instructions to U.S. Customs and Border Protection (CBP). This notice will not affect the current cash deposit rate for these two companies.

With respect to all the non-selected companies, because the cash deposit rates have not been superseded by a subsequent administrative review of the AD order at this time, Commerce intends to issue amended cash deposit instructions to CBP.

Liquidation of Suspended Entries

Because the CIT's ruling has not been appealed, in accordance with 19 CFR 351.212(b), Commerce intends to instruct CBP to assess antidumping duties on the following unliquidated entries of subject merchandise: (1) produced and exported by Maquilacero; (2) produced and exported by Prolamsa; and (3) produced and/or exported by the non-selected companies. Commerce intends to instruct CBP to assess antidumping duties on all appropriate entries covered by this review when the importer-specific ad valorem assessment rate is not zero or de minimis. Where an importer-specific ad valorem assessment rate is zero or de minimis,¹⁰ Commerce intends to instruct CBP to liquidate the appropriate entries without regard to antidumping duties.

¹⁰ See 19 CFR 351.106(c)(2).

Notification to Interested Parties

This notice is issued and published in accordance with sections 516A(c) and (e) and 777(i)(1) of the Act.

Dated: November 1, 2023.
Lisa W. Wang,
Assistant Secretary for Enforcement and Compliance.

[FR Doc. 2023-24830 Filed 11-8-23; 8:45 am]

BILLING CODE 3510-DS-P